DEPARTMENT OF ENERGY

Federal Energy Regulatory Commission

[Docket Nos. CP07-406-000, CP07-407-000, CP07-408-000]

Monroe Gas Storage Company, LLC; Notice of Filing

July 3, 2007.

Take notice that on June 26, 2007, Monroe Gas Storage Company, LLC (Monroe Gas), 707 17th Street, Suite 3020, Denver, CO 80202, filed an application for a certificate of public convenience and necessity, pursuant to Section 7 of the Natural Gas Act (NGA) and Part 157 of the Commission's Rules and Regulations, authorizing Monroe Gas to construct, own, and operate the Monroe Gas Storage Project located in Monroe County, Mississippi (Project). Monroe Gas also seeks approval of its Pro-Forma Gas Tariff and requests authorization to charge market-based rates for the proposed storage services. Additionally, Monroe Gas requests a blanket certificate authorizing Monroe Gas to engage in certain self-implementing routine activities under Part 157 and a blanket certificate authorizing Monroe Gas to provide open-access non-discriminatory firm and interruptible natural gas storage services and unbundled sales services on behalf of others. The Project will provide up to 12.0 Bcf of working gas storage capacity, as well as provide up to 465 MMcf/d of delivering and withdrawing gas. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

The Project will be located within land developed by Grace Petroleum, variously known as the Four Mile or Fourmile Creek Gas Field. The Project consists principally of: Nine new natural gas injection/withdrawal wells, five existing natural gas production wells, a compressor station with three 4,735 hp compressor units, and related pipelines. The proposed project will be connected with the Texas Eastern Transmission Corp. and Tennessee Gas Pipeline Company systems. Monroe Gas proposes to complete construction of the Project by September 30, 2008.

Any questions regarding the application are to be directed to William B. Mathews, Monroe Gas Storage Company, 707 17th Street, Suite 3020, Denver, CO 80202.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: July 24, 2007.

Kimberly D. Bose,
Secretary.

[FR Doc. E7-13443 Filed 7-10-07; 8:45 am]

BILLING CODE 6717-01-P